DEPARTMENT OF HEALTH AND HUMAN SERVICES

[Document Identifier: OS-0990-new; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and OS document identifier, to Sherette.funncoleman@hhs.gov, or call the Reports Clearance Office on (202) 690-5683. Send written comments and recommendations for the proposed information collections within 30 days of this notice directly to the OS OMB Desk Officer; faxed to OMB at (202) 395-5806.

Proposed Project: The Hospital Preparedness Program— Generic HPP and Future Collection Activities—New—OMB No. 0990—OS—Assistant Secretary for Preparedness and Response (ASPR).

Abstract: The Program Evaluation Section (PES), part of the Department of Health and Human Services (HHS), Assistant Secretary for Preparedness and Response (ASPR), Office of Preparedness and Emergency Operations (OPEO), Division of Preparedness Planning (DPP), in conjunction with the Hospital Preparedness Program (HPP) in the Division of National Healthcare Preparedness Programs, is seeking clearance by the Office of Management of Budget (OMB) for a Generic Data Collection Form to serve as the cornerstone of its effort to assess awardee performance under the HPP Cooperative Agreement (CA) Program. Performance data are gathered from awardees as part of their Mid-Year and End-of-Year Progress Reports and other similar information collections (ICs) which have the same general purpose (Healthcare Coalitions, Capabilities and Budget Information), account for awardee spending and performance on all activities conducted in pursuit of achieving the HPP Grant goals.

Additionally, to reduce administrative burden on awardees, there is a need to develop reporting forms and templates that allow awardees and ASPR to more easily capture the data and other information already provided in the grant application at other times during the yearly grant cycle, and onsite visits by project and field officers (e.g. pre-populating some elements of the mid-year and end- of-year reporting). Such reporting will systematically capture relevant information in a format that allows for easy access and use within a number of related grant business processes, including Grants management, Program and project management, and performance metrics and evaluation. A standardized program-specific application addendum will facilitate such data retrieval and decrease overall government administration costs.

This data collection effort is crucial to HPP's decision-making process regarding the continued existence, design and funding levels of this program. Results from these data analyses enable HPP to monitor healthcare emergency preparedness and progress towards national preparedness goals.

Estimated Annualized Burden Table

Estimated Annual Burden Hours for the Generic HPP and Future Collection Activities
Data collection activity | Number of respondents | Number of responses | Response time (hours) | Total annual burden hours (for all awardees)
Generic and Future Program Data Information Collection(s) | 62 | 1 | 58 | 3,596
Total |  |  |  | 3,596

Keith A. Tucker,
Paperwork Reduction Act Reports Clearance Officer, Office of the Secretary.

[FR Doc. 2011-29585 Filed 11-15-11; 8:45 am]

BILLING CODE 4150-05-P